DEPARTMENT OF COMMERCE

National Oceanic and Atmospheric Administration

[RTID 0648-XE387]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Summer Flounder, Scup, and Black Sea Bass Advisory Panel will hold a public meeting, jointly with the Atlantic States Marine Fisheries Commission's (Commission) Summer Flounder, Scup and Black Sea Bass Advisory Panel.

DATES: The meeting will be held on Thursday, November 14, 2024, from 2 p.m. to 5 p.m. For agenda details, see SUPPLEMENTARY INFORMATION.

ADDRESSES: The meeting will be held via webinar. Webinar connection, agenda items, and any additional information will be available at https://www.mafmc.org/council-events.

Council address: Mid-Atlantic Fishery Management Council, 800 N. State Street, Suite 201, Dover, DE 19901; telephone: (302) 674-2331 or on their website at https://www.mafmc.org.

FOR FURTHER INFORMATION CONTACT: Christopher M. Moore, Ph.D., Executive Director, Mid-Atlantic Fishery Management Council, telephone: (302) 526-5255.

SUPPLEMENTARY INFORMATION: The objective of this meeting is to discuss 2025 recreational measures (i.e., bag, size, and season limits) for summer flounder, scup, and black sea bass. The Council and Commission previously adopted 2024-25 recreational measures for summer flounder and scup (the same measures across the 2 years). Therefore, Advisors will review the previously adopted 2025 recreational measures for summer flounder and scup and provide input on whether these measures should remain unchanged. Black sea bass recreational measures for 2025 were not previously adopted; therefore, Advisors will discuss considerations for 2025 black sea bass measures and provide input on the appropriate approach for 2025 black sea bass recreational measures.

Special Accommodations

The meeting is physically accessible to people with disabilities. Requests for sign language interpretation or other auxiliary aids should be directed to Shelley Spedden at the Council Office, (302) 526-5251, at least 5 days prior to the meeting date.

Authority: 16 U.S.C. 1801 et seq.

Dated: October 18, 2024.
Alyssa Weigers,
Acting Deputy Director, Office of Sustainable Fisheries, National Marine Fisheries Service.

[FR Doc. 2024-24516 Filed 10-22-24; 8:45 am]

BILLING CODE 3510-22-P